DEPARTMENT OF AGRICULTURE

Forest Service

Establishment of Rose Purchase Unit, Calhoun County, AL

AGENCY: Forest Service, USDA.

ACTION: Notice of establishment of purchase unit.

SUMMARY: On August 17, 2006, the Under Secretary of Natural Resources and Environment created the Rose Purchase Unit. This purchase unit comprises 160 acres, more or less, within Calhoun County, Alabama. Establishment of this purchase unit was effective August 17, 2006.

ADDRESSES: A copy of the map showing the purchase unit is on file and available for public inspection in the Office of the Director, Lands Staff, 4th Floor—South, Sidney R. Yates Federal Building, Forest Service, USDA, 201 14th Street, SW., Washington, DC 20250, between the hours of 8:30 a.m. and 4:30 p.m., Eastern Standard Time, Monday through Friday. Visitors are encouraged to call ahead to (202) 205-1248 to facilitate entry to the building.

Individuals who use telecommunication devices for the deaf (TDD) may call the Federal Information Relay Service (FIRS) at 1-800-877-8339) between 8 a.m. and 8 p.m., Eastern Standard Time, Monday through Friday.

FOR FURTHER INFORMATION CONTACT: Gregory C. Smith, Director, Lands Staff, Forest Service, USDA, 1400 Independence Ave., SW., Mailstop 1124, Washington, DC 20250-003, Telephone: (202) 205-1248.

SUPPLEMENTARY INFORMATION: The following described lands lying adjacent to or proximate to the Talladega National Forest are suitable for the protection of the watersheds of navigable streams and for other purposes in accordance with Section 6 of the Weeks Act of 1911 (16 U.S.C 515). Therefore, in furtherance of the authority of the Secretary of Agriculture pursuant to the Weeks Act of 1911, as amended, including Section 17 of the National Forest Management Act of 1976 (Pub. L. 94-588; 90 Statute 2961), these lands are hereby designated and established as the Rose Purchase Unit.

Lands lying in Township 13 South, Range 9 East, Calhoun County, Huntsville Meridian, Alabama and more particularly described as:

Section 28: E½ SW¼ (also known as Rose Tract T-477) containing 80 acres more or less.

Section 28: W½ SW¼ (also known as Hugh Bennett Tract T-459r) containing 80 acres more or less.

Containing 160 total acres more or less.

Dated: October 9, 2007.
Gloria Manning,
Associate Deputy Chief, National Forest System.

[FR Doc. E7-20429 Filed 10-16-07; 8:45 am]

BILLING CODE 3410-11-P